DEPARTMENT OF COMMERCE

National Oceanic and Atmospheric Administration

[I.D. 041801F]

Western Pacific Fishery Management Council; Public Meeting

AGENCY: National Marine Fisheries Service (NMFS), National Oceanic and Atmospheric Administration (NOAA), Commerce.

ACTION: Notice of public meetings.

SUMMARY: The Western Pacific Fishery Management Council’s Crustaceans Plan Team and the 77th meeting of the Council’s Scientific and Statistical Committee (SSC) will hold public meetings.

DATES: The meetings will be held between Monday, May 14, 2001, and Thursday, May 17, 2001. See SUPPLEMENTARY INFORMATION for specific dates and times.

ADDRESSES: The meetings will be held at the Western Pacific Fishery Management Council office conference room, 1164 Bishop St., Suite 1400, Honolulu, HI; telephone: (808-522-8220).

Council address: Western Pacific Fishery Management Council, 1164 Bishop St., Suite 1400, Honolulu, HI, 96813.

FOR FURTHER INFORMATION CONTACT: Kitty M. Simonds, Executive Director; telephone 808-522-8220.

SUPPLEMENTARY INFORMATION:

Meeting Dates, Times, and Agendas

9-5 p.m.- Monday, May 14, 2001

The Crustaceans Plan Team will discuss and may make recommendations to the Council on the agenda items shown here. The order in which agenda items will be addressed can change.

1. Annual report/status of the stocks

2. Status of the fishery closures

A. Court actions

B. NMFS actions

C. Executive Orders for Northwestern Hawaiian Islands (NWHI) Reserve

D. Impacts/Fishery Disaster Relief

3. NMFS plans for research and charter cruises

4. Recommendations of Monk Seal Recovery Team

5. Status of the Draft Environmental Impact Statement (EIS)/Biological Opinion (BO)

6. Scope-of-Work for 5-year Review of Fishery Management Plan (FMP)

A. Reasons for implementing Amendment 9

B. Basic elements of Amendment 9

C. Modification since Amendment 9

D. Future considerations and needs

E. Overcapitalization study

F. Previous SSC and Council recommendations

G. Technical Review Panel/assessment model

7. Research priorities for lobster fisheries

8. Other business

9-5 p.m.- Tuesday May 15, 2001

The SSC will discuss and may make recommendations to the Council on the agenda items below. The order in which agenda items will be addressed can change.

1. Precious corals fisheries

A. Gold coral growth rates and minimum (possibly maximum) size

B. Framework adjustment regarding the exploratory area and the management of undiscovered sites

C. Current and future research on precious corals

D. Refinement of Maximum Sustainable Yield (MSY) models

E. Status of Draft Environmental Impact Statement (DEIS)

F. Precious Corals Plan Team recommendations

2. Crustaceans fisheries (NWHI lobsters)

A. Crustaceans Plan Team recommendations

3. Bottomfish fisheries

A. Summary of 2000 annual report modules and recommendations

B. Plan Team recommendations

C. Status of litigation, BO, observer program

D. DEIS public comments (if available)

4. Monk seals

A. Current population trends and factors affecting monk seal populations

B. U. S. Coast Guard Environmental Risk Assessment

C. Recommendations of the Monk Seal Recovery Team

D. Bottomfish/monk seal mitigation measures

5. Observer program

A. Archipelago Marine Research Ltd.

B. Digital Observer Project

6. Proposed Oceanic Fisheries Research Program for American Samoa

8:30-5 p.m.- Wednesday May 16, 2001

1. Pelagic fisheries

A. First quarter 2001 Hawaii and American Samoa longline reports

B. Turtle conservation and management

(1) Overview of litigation, EIS, BO

(2) Biological Opinion

(3) Turtle population models

i. Turtle simulation model

ii. Other models

(4) Status of turtle recovery plans

(5) Council Turtle Conservation Plan

(6) Turtle research

i. Fishing experiment

ii. Other research (biology, tagging, US/Mexico research etc.)

C. Seabird conservation and management

i. EIS measures and the US Fish & Wildlife Service BO

ii. National Plan of Action

iii. Fishers Forum

iv. Underwater setting chute

D. Marine Mammal Protection Act reclassification of Hawaii longline fishery

E. International Management Multilateral High Level Conference, Inter-American Tropical Tuna Commission, Committee on Fisheries

8:30-5 p.m.- Thursday, May 17, 2001

1. Ecosystem and Habitat

A. Ecosystem management plans (demersal, pelagics)

B. Public/agency comments on Draft Coral Reef Ecosystem FMP/DEIS

C. Coral Reef Ecosystem Plan Team recommendations

2. Overfishing definitions/MSY

3. Report on Best Available Science Workshop

4. Alternative for turtle conservation plan

5. Other business

6. Schedule for next meeting

Although non-emergency issues not contained in this agenda may come before the Council for discussion, these issues may not be the subject of formal Council action during these meetings. Council action will be restricted to those issues specifically listed in this notice and any issues arising after publication of this notice that require emergency action under section 305(c) of the Magnuson-Stevens Fishery Conservation and Management Act, provided the public has been notified of the Council’s intent to take final actions to address such emergencies.

Special Accommodations

These meetings are physically accessible to people with disabilities. Requests for sign language interpretation or other auxiliary aids should be directed to Kitty M. Simonds, 808-522-8220 (voice) or 808-522-8226 (fax), at least 5 days prior to meeting date.

Dated: April 23, 2001.
Richard W. Surdi,
Acting Director, Office of Sustainable Fisheries, National Marine Fisheries Service.

[FR Doc. 01-10657 Filed 4-27-01; 8:45 am]

BILLING CODE 3510-22-S